DEPARTMENT OF DEFENSE

Department of the Army; Corps of Engineers

Intent To Prepare a Draft Environmental Impact Statement for the Coos Bay Channel Modification Project

AGENCY: Department of the Army, U.S. Army Corps of Engineers, DoD.

ACTION: Notice of intent.

SUMMARY: The U.S. Army Corps of Engineers, Portland District intends to prepare an Environmental Impact Statement (EIS) to analyze the potential environmental effects of approving the Oregon International Port of Coos Bay's (OIPCB) proposed Coos Bay Channel Modification Project. The OIPCB proposes to widen and deepen the Coos Bay Federal Navigation Project from the ocean to river mile (RM) 8.2 to improve navigation efficiency, reduce shipping transportation costs and facilitate the shipping industry's transition to larger, more efficient vessels.

DATES: Interested parties are invited to submit written comments on or before October 3, 2017.

ADDRESSES: Submit written comments to U.S. Army Corps of Engineers, Portland District (PM-E), P.O. Box 2946, Portland, OR 97208-2946, or at the project Web site: http://www.nwp.usace.army.mil/coast/coos-bay/channel-modification. All comments should include “Coos Bay Channel Modification Project EIS” in the subject line.

FOR FURTHER INFORMATION CONTACT: Questions about the proposed action and draft EIS can be addressed to: Dr. Ann Hodgson, by mail, telephone (503) 808-4663, or by email at coosbaychannelmodEIS@usace.army.mil.

SUPPLEMENTARY INFORMATION: 1. Previous Withdrawn Action. The Corps published a Notice of Intent to prepare an EIS and Feasibility Study for a previous proposal to modify the Coos Bay Federal Navigation Project on January 11, 2008 (73 FR 2013). The channel modification described in 2008 was proposed under the authority of Section 203 of the Water Resources Development Act of 1986; however, the proposal was withdrawn and a draft EIS was not prepared.

2. Proposed Action. The OIPCB is requesting approval to construct the Coos Bay Channel Modification Project. If approved, the OIPCB would construct the project without any federal cost sharing (i.e., the OIPCB would pay 100 percent of the cost of construction). The proposed project requires Department of the Army authorization under: Section 204 of the Water Resources Development Act of 1986, as amended (33 U.S.C. 2232); Section 14 of the Rivers and Harbors Act of 1899 (33 U.S.C. 408, commonly referred to as Section 408), Section 10 of the Rivers and Harbors Act of 1899 (33 U.S.C. 403); Section 404 of the Clean Water Act (33 U.S.C. 1344); and Section 103 of the Marine Protection, Research, and Sanctuaries Act of 1972, as amended (33 U.S.C. 1413).

Section 204 authorizes the Secretary of the Army, acting through the Assistant Secretary of the Army for Civil Works, to grant approval to non-federal entities to design and construct improvements to Corps navigation projects. This section also provides that the Secretary shall be responsible for the operation and maintenance of those improvements if the Secretary determines the improvements are economically justified, environmentally acceptable and certifies the project was constructed in accordance with applicable permits and engineering and design standards.

Section 408 authorizes the Secretary of the Army, acting through the Chief of Engineers, to grant permission for the alteration or occupation or use of Corps Civil Works projects (e.g., a federal navigation project) if the Secretary determines that the activity will not be injurious to the public interest and will not impair the usefulness of the project.

Section 10, Section 404, and Section 103 authorizes the Secretary of the Army, acting through the Chief of Engineers, to issue permits to authorize work in navigable waters of the U.S., to authorize the discharge of dredged of fill material into waters of the U.S., and to authorize the transport of dredged material for the purpose of dumping it into ocean waters, respectively.

The Corps, as the lead agency for compliance with the National Environmental Policy Act (NEPA), has determined the above-listed actions require the preparation of an EIS. The following state and federal agencies may participate as cooperating agencies for the preparation of the EIS: The Bureau of Land Management, U.S. Fish and Wildlife Service, National Marine Fisheries Service, U.S. Environmental Protection Agency, Federal Aviation Administration, the U.S. Coast Guard, Oregon Department of Fish and Wildlife, Oregon Department of Land Conservation and Development, Oregon Department of Environmental Quality. In addition, the Confederated Tribes of the Coos, Lower Umpqua, and Siuslaw, Confederated Tribes of the Siletz Indians, and the Coquille Indian Tribe may participate as cooperating entities on the preparation of the EIS.

3. Project Site and Background. The project site is in Coos Bay, located on the southern coast of Oregon. The Coos Bay Federal Navigation Project was originally authorized by the Rivers and Harbors Act of March 1879. The Coos Bay Federal Navigation Project includes two entrance jetties, the two navigation channels, two turning basins, and pile dikes. The current channel configuration from the ocean entrance to the navigation channel is −47 feet deep, the channel transitions to −37 feet deep between RM 0 to RM 1, then maintains −37 feet deep from RM 1 to RM 15.0. The main channel has a nominal width of 300 feet wide from the ocean inlet to RM 9.2. At RM 9.2, the channel widens to 400 feet and continues at that width to RM 15.0; from RM 15.0 through RM 17.0, the channel decreases to −22 feet deep and 150 feet wide. Advanced maintenance dredging and allowable overdepth dredging (standard practice on deep draft navigation channels) results in a depth approximately five feet deeper than the authorized depth. The secondary channel, known as the Charleston Channel, is not included in the proposed project.

4. Project Description. The OIPCB proposes to deepen and widen the navigation channel from the ocean to approximately RM 8.2. The project would require the dredging and disposal of approximately 18 million cubic yards of material (sand and rock) to deepen and widen the navigation channel. The proposed navigation channel configuration would be −45 feet deep with a nominal width of 450 feet wide. The entrance to the navigation channel at the ocean would have a nominal width of 1,280 feet and an authorized depth of 57 feet MLLW at its offshore entrance. The channel width would transition to a width of 450 feet at RM 1; this narrowing is continuous from the offshore entrance until RM 1. Upstream of RM 1, the proposed channel would have a nominal width of 450 feet and an authorized depth of 45 feet MLLW. The proposed project design would also accommodate advance maintenance dredging and allowable overdepth dredging of approximately five feet deeper than the proposed depths. The modified channel would have a vessel-turning basin extending from RM 7.3 to RM 7.8. At its full width, the proposed vessel-turning basin is 1,400-feet-long and 1,100-feet-wide, with an authorized depth of 37 feet MLLW. The portion of the channel that intersects this turning basin will have an authorized depth of 45 feet MLLW. The Port proposes to dispose of this dredged material at a newly proposed Ocean Dredged Material Disposal Site located approximately two miles offshore of the navigation channel entrance. The proposed disposal site would have an area of approximately 1,850 acres in water depths ranging from −140 to −320 feet deep. The channel modification project would include improvements to the North Jetty to alleviate impacts from the entrance channel widening, deepening, and lengthening, and to retard erosion at Log-Spiral Bay, by placing rock at the jetty toe and by increasing the size of the rock along the jetty head. The channel modification would also include the relocation and expansion of aids to navigation by relocating and installing new fixed and floating channel and range markers. The Corps will be responsible for the operation and maintenance of these improvements if the Secretary determines the improvements are economically justified, environmentally acceptable and certifies the project was constructed in accordance with applicable permits and engineering and design standards.

5. Alternatives. The draft EIS will evaluate a range of reasonable alternatives. Alternatives may include, but are not limited to, no action, alternative channel widths and depths, and alternative dredged material disposal locations.

6. Other Environmental Reviews and Consultations. Other environmental reviews and consultations for the proposed project may include, but is not limited to, Section 401 of the Clean Water Act, Section 7 of the Endangered Species Act, Section 305 of the Magnuson-Stevens Fishery Conservation and Management Act, Section 307 of the Coastal Zone Management Act, and Section 106 of the National Historic Preservation Act.

7. Scoping Process and Public Comments. The Corps will conduct public scoping (40 CFR 1501.7) to determine the scope of issues (40 CFR 1508.25) to be addressed in the draft EIS and to identify the significant issues related to the proposed project. All interested parties including individuals; organizations; local, state, and federal agencies; and tribes and tribal governments are invited to participate in the scoping process for the draft EIS, which will analyze numerous issues in depth. These issues include, but are not limited to: Navigation, socioeconomics, fish and wildlife, water quality, safety, shoreline erosion and accretion, recreation, and cultural and historic resources. Scoping comments also will be used to develop possible project alternatives. Additional project information is available online at: www.nwp.usace.army.mil/coast/coos-bay/channel-modification. All parties are invited to participate in the scoping process to determine the range of issues and alternatives to be addressed. A public scoping meeting will be held on Wednesday, September 13, 2017, from 3-7:30 p.m. at the Coos Bay Public Library, 525 Anderson Ave., Coos Bay, OR 97420. The Corps expects the Draft EIS to be made available to the public in March 2018.

John D. Cunningham,
Major, Corps of Engineers Deputy District Commander.

[FR Doc. 2017-17483 Filed 8-17-17; 8:45 am]

BILLING CODE 3720-58-P